NATIONAL LABOR RELATIONS BOARD

29 CFR Part 102

RIN 3142-AA17

Representation-Case Procedures: Voter List Contact Information; Absentee Ballots for Employees on Military Leave; Reopening of Comment Period

AGENCY: National Labor Relations Board.

ACTION: Proposed rule; extension of comment period.

SUMMARY: By this Notice of Proposed Rulemaking, the National Labor Relations Board (NLRB) is announcing a reopening of the period to submit comments to the initial comments (or reply comments) to the Notice of Proposed Rulemaking issued in the Federal Register on July 29, 2020. On October 5, 2020, the NLRB issued a press release indicating the Board was extending the comment period for replies to initial comments from October 13, 2020 to October 27, 2020.

DATES: The reply comment period for the proposed rule published July 29, 2020, at 85 FR 45553, is reopened. Reply comments to the Notice of Proposed Rulemaking must be received by the Board on or before October 27, 2020.

ADDRESSES:

Internet—Federal eRulemaking Portal. Electronic comments may be submitted through http://www.regulations.gov.

Delivery—Comments should be submitted by mail or hand delivery to: Roxanne L. Rothschild, Executive Secretary, National Labor Relations Board, 1015 Half Street SE, Washington, DC 20570-0001. Because of security precautions, the Board continues to experience delays in U.S. mail delivery. You should take this into consideration when preparing to meet the deadline for submitting comments. The Board encourages electronic filing. It is not necessary to send comments if they have been filed electronically with regulations.gov. If you send comments, the Board recommends that you confirm receipt of your delivered comments by contacting (202) 273-1940 (this is not a toll-free number). Individuals with hearing impairments may call 1-866-315-6572 (TTY/TDD).

Only comments submitted through http://www.regulations.gov, hand delivered, or mailed will be accepted; ex parte communications received by the Board will be made part of the rulemaking record and will be treated as comments only insofar as appropriate. Comments will be available for public inspection at http://www.regulations.gov and during normal business hours (8:30 a.m. to 5 p.m. EST) at the above address.

The Board will post, as soon as practicable, all comments received on http://www.regulations.gov without making any changes to the comments, including any personal information provided. The website http://www.regulations.gov is the Federal eRulemaking portal, and all comments posted there are available and accessible to the public. The Board requests that comments include full citations or internet links to any authority relied upon. The Board cautions commenters not to include personal information such as Social Security numbers, personal addresses, telephone numbers, and email addresses in their comments, as such submitted information will become viewable by the public via the http://www.regulations.gov website. It is the commenter's responsibility to safeguard his or her information. Comments submitted through http://www.regulations.gov will not include the commenter's email address unless the commenter chooses to include that information as part of his or her comment.

FOR FURTHER INFORMATION CONTACT: Roxanne Rothschild, Executive Secretary, National Labor Relations Board, 1015 Half Street SE, Washington, DC 20570-0001, (202) 273-1940 (this is not a toll-free number), 1-866-315-6572 (TTY/TDD).

SUPPLEMENTARY INFORMATION: The National Labor Relations Board (“NLRB” or “Board”) published a Notice of Proposed Rulemaking in the Federal Register on July 29, 2020, seeking comments from the public regarding amending the Board's rules and regulations to eliminate the requirement that employers must, as part of the Board's voter list requirement, provide available personal email addresses and available home and personal cellular telephone numbers of all eligible voters. It also proposes an amendment providing for absentee mail ballots for employees who are on military leave.

Dated: October 5, 2020.
Roxanne L. Rothschild,
Executive Secretary.

[FR Doc. 2020-22332 Filed 10-23-20; 8:45 am]

BILLING CODE 7545-01-P